DEPARTMENT OF AGRICULTURE

Food and Nutrition Service

Agency Information Collection Activities: Proposed Collection; Comment Request—Assessment of the Contributions of an Interview to Supplemental Nutrition Assistance Program Eligibility and Benefit Determinations

AGENCY: Food and Nutrition Service, USDA.

ACTION: Notice.

SUMMARY: In accordance with the Paperwork Reduction Act of 1995, this notice invites the general public and other public agencies to comment on a proposed information collection. This proposed collection is for “Assessment of the Contributions of an Interview to Supplemental Nutrition Assistance Program Eligibility and Benefit Determinations.” The proposed collection will examine if there is a difference in payment accuracy, program access, administrative costs, and client satisfaction under two conditions: usual application procedures and the no-interview test condition.

DATES: Written comments must be received on or before January 30, 2012.

ADDRESSES: Comments are invited on: (a) Whether the proposed collection of information is necessary for the proper performance of the functions of the agency, including whether the information shall have practical utility; (b) the accuracy of the agency's estimate of the burden of the proposed collection of information, including the validity of the methodology and assumptions used; and (c) ways to minimize the burden of the collection of information on those who are to respond, including use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at (703) 305-2576 or via email to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at (703) 305-2017.

Abstract: The Supplemental Nutrition Assistance Program (SNAP) is a critical source of support for many low-income families and individuals. In recent years, States have changed the way clients enroll in SNAP. A central feature of the changes is a waiver that allows States to conduct the in-person eligibility interview over the telephone. Many States have implemented this interview waiver. Some states have expressed interest in exploring alternative certification approaches that do not require conducting any interviews in the SNAP eligibility determination process. However, there is little data available to assess the impact of eliminating a certification interview on client access, customer service, and program integrity. This study will focus on the contributions of interviews to the determination of SNAP eligibility and benefits. It will examine if there is a difference in payment accuracy, program access, administrative costs, and client satisfaction under two conditions: usual application procedures and the no-interview test condition.

Three states—North Carolina, Oregon, and Utah—applied and were selected to conduct this study. North Carolina and Oregon will be conducting the study in selected demonstration sites and Utah will randomly select clients across the entire state. All three states will limit the size of the no-interview test condition to 20 percent of their caseload. Each state will identify a comparison site(s) that represents its current application procedures. These comparison sites will be similar to the no-interview demonstration sites in terms of population characteristics, population density, SNAP participation trends, SNAP advocacy and outreach, economic indicators, and other factors. Project findings will help policymakers understand the contributions of an interview for eligibility and benefit determination.

The project has eight research objectives: (1) Describe the eligibility determination procedures under the current system and the demonstration condition in each State; (2) describe any modernization activities in each State that complement the waiver to make its application most effective; (3) describe the process for implementing the waivers; (4) describe the responses of clients to the no-interview condition; (5) describe the responses of SNAP staff to the no-interview condition; (6) describe the responses of community partners and other stakeholders to the no-interview condition; (7) document the impact of the no-interview condition; and (8) document the main take-away points from the study to inform FNS.

Data will be collected from four sources:

• First, site visits will be conducted to observe demonstration and comparison procedures and to interview professional staff who work at SNAP offices or related not-for-profit organizations.

• Second, each State will conduct Quality Control (QC)-like reviews both before and after implementing the demonstration projects. The States will select 225 to 300 clients to interview from the demonstration site during each round of reviews. The State will use the same procedures to interview clients as it uses to conduct its Federal QC reviews. These data will be used to measure the accuracy of the eligibility and benefit determinations under both the no-interview and the States' regular interview procedures.

• Third, clients will be surveyed by telephone about their recent application/recertification experiences under the interview conditions to provide their perspectives on the process. Clients will receive an advance letter about the survey, including a $2 pre-interview cash incentive. The telephone interview will last five to seven minutes. Clients will also receive a $10 gift card to a local store after completing the survey.

• Finally, a total of four focus groups will be conducted in each State—two focus groups in the no-interview sites and two focus groups in the interview sites. These focus groups will be conducted with “procedural denials”—individuals who submit a SNAP application but are denied SNAP benefits because they fail to complete the subsequent stages of the application process. Focus group members will be selected using State SNAP administrative data for recent applicants. Focus group discussions will last approximately 90 minutes. All focus group participants will receive a $30 stipend for participation and a $6 stipend for transportation or parking. These qualitative data will provide a better understanding of reasons applicants do not complete the certification or recertification process.

Tailored protocols will be used for the survey and focus groups. Interview and focus group questions will be as simple and respondent-friendly as possible. Responses to all questions will be voluntary. The contractor will take the following steps to treat the data provided in a confidential manner: (1) No data will be released in a form that identifies individual respondents by name and (2) information collected through interviews will be combined across other respondents in the same category and reported only in aggregate form. Respondents will be notified of these confidentiality measures during data collection.

Other data collection will include observations of local offices and interviews with staff at State and local SNAP offices and at not-for-profit organizations. The study will use State administrative data to examine trends in participation and benefit amounts and to monitor demonstration costs and other performance issues.

Affected Public: Members of the public affected by the data collection include State and local government, individuals and households, and not-for-profit institutions. Respondent groups identified include (1) SNAP staff at the State, district/county, and local levels; (2) SNAP applicants and participants; and (3) not-for-profit organizations that work closely with SNAP applicants and participants.

Estimated Number of Respondents: The study will collect data from a total of 2,991 respondents across all States. This number represents the sum of 12 State-level SNAP staff interviews; 18 district/county SNAP staff interviews; 60 local office SNAP staff interviews; 9 interviews with staff at not-for-profit organizations; 2,772 SNAP clients; and 120 procedural denials.

Estimated Number of Responses per Respondent: Each client survey and focus group respondent will require one response. Each interview respondent for State and local agency and not-for-profit organization staff will require two responses.

Estimated Time per Response: For all interviews of State SNAP staff, district/county SNAP staff, local office SNAP staff, and not-for-profit partner staff, the burden estimate is 1.5 hours, which includes the respondents' time to prepare for and complete the interview. For client survey respondents, including the respondents' time to read an advance letter and complete the survey, the burden estimate is 0.1667 hours (10 minutes). For client survey refusers, the burden estimate is 0.0833 hours (5 minutes), including time to read the advance letter and field a call attempting the survey. For all participating members in the focus groups, the burden estimate is 1.667 hours (100 minutes). This includes the respondents' time to be screened, receive a reminder call, read a reminder letter, and participate in the group. For all who decline to participate in the focus groups, including the respondents' time to be screened, the burden estimate is 0.0833 hours (5 minutes) (see the following table).

Estimated Total Annual Burden on Respondents and Non-responders: Staff from State-, district-, county-, and local-level SNAP offices, as well as staff from not-for-profit organizations, will be interviewed twice in the 15-month field period of this study. SNAP clients and procedural denials will be interviewed or participate in a focus group only once. This sums to a total of 1,072 hours, including State SNAP staff, 36 hours; district/county SNAP staff, 54 hours; local office SNAP staff, 180 hours; not-for-profit organization staff, 27 hours; SNAP clients participating in the survey, 462 hours; and SNAP client survey non-responders, 72.9 hours.

The number of survey non-responders is based on the assumption that we will start with a sample of 3,647 clients, of which 95 percent will be eligible for the survey, and will achieve an 80 percent response rate. The burden for clients with procedural denials participating in the focus groups is estimated at 200 hours, and for respondents who elect not to participate in the focus groups (refusers), the estimated total burden is 40 hours. The number of refusers is based on the assumption that in order to have 120 respondents ultimately attend the focus groups, 300 people will need to be recruited. In order to recruit 300 people, twice as many, or 600, will need to be contacted initially.

Affected public | Respondent type | Estimated number of respondents | Responses annually per respondent | Total annual responses | Estimated average number of hours per response | Estimated total hours
State and Local Agencies | State SNAP staff | 12 | 2 | 24 | 1.5 | 36
| District/County SNAP staff | 18 | 2 | 36 | 1.5 | 54
| Local office SNAP staff | 60 | 2 | 120 | 1.5 | 180
Not-for-Profit Organizations | Community partner organization staff | 9 | 2 | 18 | 1.5 | 27
Individuals and Households | Active SNAP participants (client survey).ᵃ | 2,772 | 1 | 2,772 | 0.1667 (10 minutes) | 462.1
| Active SNAP participants (client survey non-responders).ᵇ | 875 | 1 | 875 | 0.0833 (5 minutes) | 72.9
| SNAP procedural denials (focus group participants).ᶜ | 120 | 1 | 120 | 1.667 (100 minutes) | 200
| SNAP procedural denials (focus group non-responders).ᵈ | 480 | 1 | 480 | 0.0833 (5 minutes) | 40
Total |  | 4,346 |  | 4,445 |  | 1,072
ᵃ Client survey respondents will receive an advance letter before the interview.
ᵇ Client survey non-responders will receive an advance letter before fielding a call attempting the interview.
ᶜ Focus group members will participate in a brief screening call or interview, participate in the focus group, and receive a reminder call and letter before the focus group.
ᵈ Focus group refusers will participate in a brief screening call or interview.

Dated: November 21, 2011.
Audrey Rowe,
Administrator, Food and Nutrition Service.

[FR Doc. 2011-30674 Filed 11-28-11; 8:45 am]

BILLING CODE 3410-30-P